DEPARTMENT OF COMMERCE

National Telecommunications and Information Administration

NTIA 2022 Spectrum Policy Symposium

AGENCY: National Telecommunications and Information Administration, U.S. Department of Commerce.

ACTION: Notice of public meeting.

SUMMARY: The National Telecommunications and Information Administration (NTIA), U.S. Department of Commerce, will host a symposium on September 19, 2022, focusing on continued innovation in the use of radio-frequency spectrum, the evolution of new techniques and technologies to manage its use domestically and internationally, and principles for the development and execution of a national spectrum strategy.

DATES: The symposium will be held on September 19, 2022, from 8 a.m. to 4 p.m., eastern daylight time (EDT).

ADDRESSES: The symposium will take place at the National Press Club, 529 14th Street NW, 13th Floor, Washington, DC 20045 (Note: The National Press Club may require attendees to show identification and proof of vaccination against COVID-19). It also will be webcast live through the NTIA website at https://www.ntia.gov/other-publication/2022/2022-ntia-spectrum-policy-symposium-webcast.

FOR FURTHER INFORMATION CONTACT: John Alden, Telecommunications Specialist, Office of Spectrum Management, NTIA, at (202) 482-8046 or spectrumsymposium@ntia.gov. Please direct media inquiries to NTIA's Office of Public Affairs, (202) 482-7002; email: press@ntia.gov.

SUPPLEMENTARY INFORMATION: NTIA serves as the President's principal advisor on telecommunications policy and manages the use of the radio-frequency spectrum by federal agencies. See, 47 U.S.C. 902(b)(2). NTIA is hosting a symposium to focus on developing, implementing, and maintaining a sustainable national spectrum strategy along with a focus on evolving spectrum management techniques. These focal points will enable the United States to strengthen its global leadership role in the introduction of new wireless telecommunications technologies, services, and innovations, while also supporting the expansion of existing technologies and the nation's homeland security and public safety, national defense, scientific and technological advancement, and other critical government missions.

Leaders from the United States Government, including the Department of Commerce and the Federal Communications Commission, have been invited to provide keynote remarks. Panelists are expected to include participants from across the federal government, along with private sector and non-profit organizations. Prior to the symposium event, NTIA will post detailed program information on its website: www.ntia.gov.

The symposium is open to the public and members of the press to attend in person or to view through a webcast available on the NTIA website. NOTE: The National Press Club may ask attendees to show identification and proof of vaccination against COVID-19. While not required, NTIA asks that attendees, including those watching the online webcast, provide registration information prior to the event to include name, email address, and organization (optional). Registration information and the agenda, including any updates, will be made available on NTIA's website.

The event webcast will be close-captioned. Individuals requiring special accommodations, such as sign language interpretation or other ancillary aids, should notify Mr. Alden at the contact information listed above at least ten (10) business days before the event.

Josephine Arnold,
Acting Chief Counsel, National Telecommunications and Information Administration.

[FR Doc. 2022-18158 Filed 8-22-22; 8:45 am]

BILLING CODE 3510-60-P